ENVIRONMENTAL PROTECTION AGENCY

[FRL-9915-76-OA]

Notification of Public Teleconferences of the Chartered Science Advisory Board

AGENCY: Environmental Protection Agency.

ACTION: Notice.

SUMMARY: The Environmental Protection Agency (EPA) Science Advisory Board (SAB) Staff Office announces two public teleconferences of the chartered SAB to (1) conduct a quality review of an SAB draft report on connectivity of streams and wetlands to downstream waters and (2) deliberate on the adequacy of the scientific and technical basis of the proposed rule titled Definition of Waters of the United States Under the Clean Water Act.

DATES: The chartered SAB will conduct public teleconferences on September 26, 2014 and September 29, 2014. Each of the teleconferences will begin at 1:30 p.m. and end at 4:30 p.m. (Eastern Time).

ADDRESSES: The public teleconferences will be conducted by telephone only.

FOR FURTHER INFORMATION CONTACT: Any member of the public wishing to obtain general information regarding the teleconferences should contact Dr. Angela Nugent, Designated Federal Officer (DFO), EPA SAB (1400R), 1200 Pennsylvania Avenue NW., Washington, DC 20460; via telephone/voice mail (202) 564-2218; fax (202) 565-2098 or via email at nugent.angela@epa.gov. General information concerning the EPA SAB can be found on the SAB Web site at http://www.epa.gov/sab.

SUPPLEMENTARY INFORMATION: The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the EPA's chartered SAB will hold two public teleconferences. On the first teleconference, the chartered SAB will conduct a quality review of an SAB draft report and on the second, the chartered SAB will deliberate on the adequacy of the science supporting a proposed EPA regulation. The SAB was established pursuant to 42 U.S.C. 4365 to provide independent scientific and technical advice to the Administrator on the technical basis for agency positions and regulations.

The SAB is a federal advisory committee under FACA. The SAB will comply with the provisions of FACA and all appropriate SAB Staff Office procedural policies.

(1) Quality review of an SAB draft report on connectivity of streams and wetlands to downstream waters: Quality review is a key function of the chartered SAB. Draft reports prepared by SAB committees, panels, or work groups must be reviewed and approved by the chartered SAB before transmittal to the EPA Administrator. The chartered SAB makes a determination in a public meeting consistent with FACA about the quality of all draft reports and determines whether the report is ready to be transmitted to the EPA Administrator.

On September 26, 2014, the chartered SAB will conduct a quality review of an SAB draft report entitled SAB Review of the Draft EPA Report Connectivity of Streams and Wetlands to Downstream Waters (August 11, 2014, Draft). This draft SAB panel report peer reviews the EPA's Office of Research and Development (ORD) draft report Connectivity of Streams and Wetlands to Downstream Waters: A Review and Synthesis of the Scientific Evidence (September, 2013 External Review Draft, EPA/600/R-11/098B).

The ORD draft report was written to inform development of a rule proposed by the EPA and the U.S. Army Corps of Engineers to clarify the definition of waters of the United States under the Clean Water Act (79 FR 22188-22274). The SAB panel was charged with reviewing the overall clarity and technical accuracy of the ORD draft report, whether it included and correctly summarized the most relevant peer-reviewed scientific literature, and whether the findings and conclusions were supported by the available science.

Background information about this advisory activity can be found on the SAB Web site at: http://yosemite.epa.gov/sab/sabproduct.nsf/fedrgstr_activites/Watershed%20Connectivity%20Report?OpenDocument.

(2) Deliberations on the adequacy of the scientific and technical basis of the proposed rule titled Definition of Waters of the United States under the Clean Water Act (79 FR 22188-22274): ERDDAA requires the EPA to make available to the SAB proposed criteria documents, standards, limitations, or regulations at the time that they are provided to any other federal agency for formal review and comment, together with the relevant scientific and technical information on which the proposed action is based. The SAB then may make available to the Administrator its advice and comments on the adequacy of the scientific and technical basis of the proposed actions. The purpose of the teleconference on September 29, 2014, is for the chartered SAB to deliberate on the adequacy of the scientific and technical basis of the proposed rule cited above. The chartered SAB will consider information provided by the agency, members of the SAB Panel for the Review of the EPA Water Body Connectivity Report, and by the public through written or oral comments provided for their consideration. Information about this advisory activity may be found at http://yosemite.epa.gov/sab/sabproduct.nsf/fedrgstr_activites/WOUS-adv%26com?OpenDocument.

Availability of Meeting Materials: The agendas and other materials in support of the teleconferences will be posted on the SAB Web site at http://www.epa.gov/sab in advance of the teleconferences.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments pertaining to the group providing advice, EPA's charge questions and EPA review or background documents. Input from the public to the SAB will have the most impact if it consists of comments that provide specific scientific or technical information or analysis for the SAB to consider or if it relates to the clarity or accuracy of the technical information. Members of the public wishing to provide comment should contact Dr. Nugent at the contact information provided above.

Oral Statements: In general, individuals or groups requesting time to make an oral presentation at a public SAB teleconference will be limited to three minutes. Those interested in being placed on the public speakers' list for the September 26, 2014 teleconference should contact Dr. Nugent at the contact information provided above by September 19, 2014. Those interested in being placed on the public speakers' list for the September 29, 2014 teleconference should contact Dr. Nugent at the contact information provided above by September 23, 2014.

Written Statements: Written statements should be supplied for the September 26, 2014 teleconference should be provided to the DFO via email to nugent.angela@epa.gov by September 19, 2014. Written statements should be supplied for the September 29, 2014 teleconference should be provided to the DFO in the same manner by September 23, 2014. Written statements should be supplied in one of the following acceptable file formats: Adobe Acrobat PDF, MS Word, MS PowerPoint, or Rich Text files in IBM-PC/Windows format). It is the SAB Staff Office general policy to post written comments on the Web page for the advisory meeting or teleconferences. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Nugent at the contact information provided above. To request accommodation of a disability, please contact Dr. Nugent preferably at least 10 days prior to the teleconference, to give EPA as much time as possible to process your request.

Dated: August 18, 2014.
Thomas H. Brennan,
Deputy Director, EPA Science Advisory Board Staff Office.

[FR Doc. 2014-20391 Filed 8-26-14; 8:45 am]

BILLING CODE 6560-50-P